DEPARTMENT OF AGRICULTURE

Food and Nutrition Service

Agency Information Collection Activities: Proposed Collection; Comment Request; Supplemental Form for Collecting Taxpayer Identifying Numbers

AGENCY: Food and Nutrition Service, USDA.

ACTION: Notice.

SUMMARY: In accordance with the Paperwork Reduction Act of 1995, this notice invites the general public and other public agencies to comment on the Agency's proposed information collection of taxpayer identifying numbers from all persons and organizations with which the Agency has a direct payment relationship. This collection is an extension of a currently approved information collection.

DATES: Written comments must be received on or before February 4, 2013.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent to Mark Porter, Director, Office of Internal Controls, Audits and Investigations, Food and Nutrition Service, U.S. Department of Agriculture, 3101 Park Center Drive, Room 733, Alexandria, VA 22302. Comments may also be submitted via fax to the attention of Mark Porter at 703-605-0901 or via email to Mark.Porter@fns.usda.gov. Comments will also be accepted through the Federal eRulemaking Portal. Go to http://www.regulations.gov, and follow the online instructions for submitting comments electronically.

All responses to this notice will be summarized and included in the request for Office of Management and Budget (OMB) approval. All comments will be a matter of public record.

FOR FURTHER INFORMATION CONTACT: Requests for additional information or copies of this information collection should be directed to Mark Porter at (703) 305-0901.

SUPPLEMENTARY INFORMATION: Title: Supplemental Form for Collecting Taxpayer Identifying Numbers, FNS-711.

OMB Number: 0584-0501.

Form Number: FNS-711.

Expiration Date: January 31, 2013.

Type of Request: Extension of a currently approved information collection.

Abstract: Section 31001(y) of the Debt Collection Improvement Act of 1996 (Pub. L. 104-134), codified at 31 U.S.C. 3325(d), requires Federal agencies to include the taxpayer identifying number (TIN) of all persons or organizations they pay whenever a request for payment is submitted to Federal payment officials. Departmental Regulation 2100-2 reflects the statutory provision at 31 U.S.C. 7701(c) which requires all individuals and entities doing business with USDA to furnish a TIN. The purpose of the Supplemental Form for Collecting Taxpayer Identifying Numbers is to comply with Federal law by enabling the Agency to legally obtain a TIN from all persons and organizations who are entered into a direct payment relationship with FNS.

Affected Public: Individuals and entities who enter into a direct payment agreement with FNS under any of the various nutrition and nutrition education programs administered by FNS.

Estimated Number of Respondents: 800.

Number of Responses per Respondent: 1.

Estimated Number of Annual Responses: 800.

Estimated Time per Response: 0.0833 hours.

Estimated Total Annual Burden on Respondents: 67 hours.

Dated: November 20, 2012.
Audrey Rowe,
Administrator, Food and Nutrition Service.

[FR Doc. 2012-29386 Filed 12-4-12; 8:45 am]

BILLING CODE 3410-30-P